DEPARTMENT OF HEALTH AND HUMAN SERVICES

Indian Health Service

Geographic Composition of the Contract Health Service Delivery Areas (CHSDA) and Service Delivery Areas (SDA) of the Indian Health Service

AGENCY: Indian Health Service (IHS), Department of Health and Human Services (HHS).

ACTION: Notice.

SUMMARY: The purpose of this notice is to revise and update the list of Contract Health Service Delivery Areas (CHSDA) as defined in 42 CFR part 136, Subparts A-C and Service Delivery Areas (SDA) as established by the Director, Indian Health Service (IHS) administratively to effectuate the intent of Congress. This list replaces and supplements the FR notice dated January 10, 1984 (49 FR 1291) establishing CHSDAs and FR notice dated August 25, 1988 (53 FR 32460) establishing Health Service Delivery Areas (HSDAs).

EFFECTIVE DATE: June 21, 2007.

FOR FURTHER INFORMATION CONTACT: Hankie Ortiz, Director, Division of Regulatory Affairs, 801 Thompson Avenue, Rockville, Maryland 20852, telephone: (301) 443-1116. (This is not a toll-free number.)

SUPPLEMENTARY INFORMATION: On September 16, 1987, the Department of Health and Human Services (HHS) published new final regulations governing eligibility for the Indian Health Service (IHS) services at 52 FR 35044. In the Fiscal Year 1988 Appropriations Act, Section 315, Public Law 100-202, Congress delayed implementation of the new regulations for one year and imposed a moratorium on the use of appropriated funds for implementation of the new regulations in subsequent fiscal years. In Section 719(a) ofthe Indian Health Care Amendments of 1988, Public Law 100-713, Congress directed that during the moratorium that IHS should provide services pursuant to the criteria for eligibility for such services that were in effect on September 15, 1987. Because the moratorium continues in effect, for the convenience of the public, the HHS republished the eligibility regulations in effect on September 15, 1987. These regulations appear re-designated in the Code of Federal Regulations at Title 42, Part 136, Subparts A-C.

The regulations of September 16, 1987, that are under moratorium, provided that the IHS would designate and publish as a notice in the Federal Register specific geographic areas within the United States including Indian reservations and areas surrounding those reservations as Health Service Delivery Areas (HSDAs). The HSDAs are the geographic areas within which direct and contract health services may be made available by the IHS to eligible individuals who reside within the areas. In anticipation of the Congressional moratorium being lifted, the IHS on August 25, 1988 published at 53 FR 32460 a list of HSDAs. If the Congressional moratorium were lifted, the list was to be effective September 16, 1988 or such later date as may be estblished by Congress. Because the Congressional moratorium continues in effect, the HSDA list never became effective.

As noted above, the IHS currently provides services under regulations in effect on September 15, 1987 and republished at 42 CFR Part 136, Subparts A-C. Subpart C defines a Contract Health Service Delivery Area (CHSDA) as the geographic area within which contract health services will be made available by the IHS to members of an identified Indian community who reside in the area. It should be clearly understood that residence within a CHSDA or Service Delivery Area (SDA) by a person who is within the scope of the Indian health program, as set forth in 42 CFR 136.12, creates no legal entitlement to contract health services but only potential eligibility for services. Services needed but not available at an IHS/tribal facility are provided under the Contract Health Services (CHS) program depending on the availability of funds, the person's relative medical priority, and the actual availability and accessibility of alternate resources in accordance with the regulations.

The purpose of this FR notice is to revise and update the list of CHSDAs and SDAs as last published in 1984. The current eligibility regulations at 42 CFR 136.22(a)(1)-(5) defines certain CHSDAs by designating some States as CHSDAs and certain counties within a state as a CHSDA. In addition, Section 136.22(a)(6) provides that:

With respect to all other reservations (i.e., other than those not specifically listed in 42 CFR 136.22(a)(1)-(5)) within the scope of the Indian health program, the CHSDA shall consist of a county which includes all or part of a reservation, and any county or counties which have a common boundary with the reservation.

The counties included or excluded from the following list of CHSDAs were determined by applying the regulations at 42 CFR 136.22 except where otherwise provided for by regulations, public laws, or congressional action in the appropriations process.

The list includes those CHSDAs as defined in the regulations at 42 CFR 136.22, including those CHSDAs designated as exceptions within the funded scope and exceptions provided by legislation. In addition, many of the newly recognized tribes do not have reservations and either Congress has legislatively designated counties to serve as SDAs or the Director, IHS exercised reasonable administrative discretion to designate SDAs to effectuate the intent of Congress for these tribes. The SDAs function as CHSDAs for the purposes of operating a CHS program pursuant to the ISDEAA, Pub. L. 93-638. Thus, the CHSDA list incorporates the SDAs that operate as CHSDAs for newly recognized tribes recognized as of the date of publication of this Notice.

The CHSDA and SDA list has been modified and updated to include the name of the tribe, with the respective reservation in parenthesis underneath the name of the tribe, and/or the counties comprising the CHSDA or SDA. Any mistakes in the list of CHSDAs and SDAs should be brought to the attention of Hankie Ortiz, Director, Division of Regulatory Affairs, 801 Thompson Avenue, Rockville, Maryland 20852, telephone: (301) 443-1116. Any corrections of mistaken inclusions or exclusions of a county or counties in a CHSDA or SDA may be made administratively and included in a later FR notice. Redesignation of areas included or excluded from a CHSDA for reasons other than a mistake is governed by 42 CFR 136.22(b) and may be made by the Director, IHS.

The CHSDA and SDA counties for all tribes and reservations within the funded scope of the IHS program are as follows:

Contract Health Service Delivery Areas and Service Delivery Areas
Tribe/Reservation | County/State
Ak Chin Indian Community (Ak Chin Indian Reservation) | Pinal, AZ.
Alabama-Coushatta Tribe | Polk, TX.¹
Alaska | Entire State.²
Arapaho Tribe (Wind River Reservation) | Hot Springs, WY, Fremont, WY, Sublette, WY.
Aroostook Band of Micmac | Aroostook, ME.³
Assiniboine-Sioux Tribe (Fort Peck Reservation) | Daniels, MT, McCone, MT, Richland, MT, Roosevelt, MT, Sheridan, MT, Valley, MT.
Bad River Band of Lake Superior Chippewa (Bad River Reservation) | Ashland, WI, Iron, WI.
Bay Mills Indian Community (Bay Mills Reservation) | Chippewa, MI.
Blackfeet Tribe (Blackfeet Reservation) | Glacier, MT, Pondera, MT.
Bois Forte Band of Chippewa (Nett Lake Reservation) | Itasca, MN, Koochiching, MN, St. Louis, MN.
Brigham City Intermountain School Health Center | (⁴).
Bums Paiute Tribe (Bums Paiute Indian Colony) | Harney, OR.
California | Entire State, except for the counties listed in footnote.⁵
Catawba Indian Nation | All Counties in SC,¹³ Cabarrus, NC, Cleveland, NC, Gaston, NC, Mecklenburg, NC, Rutherford, NC, Union, NC.
Cayuga Nation of New York | Allegany, NY,¹³ Cattaraugus, NY, Chautaugua, NY, Erie, NY, Warren, PA.
Cheyenne River Sioux (Cheyenne River Reservation) | Corson, SD, Dewey, SD, Haakon, SD, Meade, SD, Perkins, SD, Potter, SD, Stanley, SD, Sully, SD, Walworth, SD, Ziebach, SD.
Chippewa-Cree Indians (Rocky Boy Reservation) | Chouteau, MT, Hill, MT, Liberty, MT.
Chitimacha Tribe | St. Mary Parish, LA.
Cocopah Tribe | Yuma, AZ, Imperial, CA.
Coeur D'Alene Tribe (Coeur D'Alene Reservation) | Benewah, ID, Kootenai, ID, Latah, ID, Spokane, WA, Whitman, WA.
Colorado River Indian Tribes (Colorado River Reservation) | La Paz, AZ, Riverside, CA, San Bernardino, CA, Yuma, AZ.
Confederated Salish & Kootenai Tribes (Flathead Reservation) | Flathead, MT, Lake, MT, Missoula, MT, Sanders, MT.
Confederated Tribes of Chehalis (Chehalis Reservation) | Grays Harbor, WA, Lewis, WA, Thurston, WA.
Confederated Tribes of Colville (Colville Reservation) | Chelan, WA,⁶ Douglas, WA, Ferry, WA, Grant, WA, Lincoln, WA, Okanogan, WA, Stevens, WA.
Confederated Tribes of Coos, Lower Umpqua & Siuslaw Indians | Coos, OR,⁷ Curry, OR, Douglas, OR, Lane, OR, Lincoln, OR.
Confederated Tribes of Goshute (Goshute Reservation) | Nevada, Juab, UT, Toole, UT.
Confederated Tribes of Grand Ronde (Grand Ronde Community) | Polk, OR,⁸ Washington, OR, Marion, OR, Yamhill, OR, Tillamook, OR, Multnomah, OR.
Confederated Tribes of Siletz (Siletz Reservation) | Benton, OR,⁹ Clackamas, OR, Lane, OR, Lincoln, OR, Linn, OR, Marion, OR, Multnomah, OR, Polk, OR, Tillamook, OR, Washington, OR, Yam Hill, OR.
Confederated Tribes of Umatilla (Umatilla Reservation) | Umatilla, OR, Union, OR.
Confederated Tribes of Warm Springs (Warm Springs Reservation) | Clackamas, OR, Jefferson, OR, Linn, OR, Marion, OR, Wasco, OR.
Confederated Tribes & Bands of Yakima Nation (Yakama Reservation) | Klickitat, WA, Lewis, WA, Skamania, WA,¹⁰ Yakima, WA.
Coquille Tribe | Coos, OR,¹³ Curry, OR, Douglas, OR, Jackson, OR, Lane, OR.
Coushatta Tribe | Allen Parish, LA, Jefferson Davis, LA.
Cow Creek Band of Umpqua | Coos, OR,¹¹ Deshutes, OR, Douglas, OR, Jackson, OR, Josephine, OR, Klamath, OR, Lane, OR.
Cowlitz Indian Tribe | Clark, WA,¹³ Cowlitz, WA, King, WA, Lewis, WA, Pierce, WA, Skamania, WA, Thurston, WA.
Crow Tribe (Crow Reservation) | Big Horn, MT, Carbon, MT, Treasure, MT,l4 Yellowstone, MT, Big Horn, WY, Sheridan, WY.
Crow Creek Sioux Tribe (Crow Creek Reservation) | Brule, SD, Buffalo, SD, Hand, SD, Hughes, SD, Hyde, SD, Lyman, SD, Stanley, SD.
Eastern Band of Cherokee Indians (Cherokee Reservation) | Cherokee, NC, Graham, NC, Haywood, NC, Jackson, NC, Swain, NC.
Flandreau Santee Sioux Tribe | Moody, SD.
Fond du Lac Band of Chippewa (Fond du Lac Reservation) | Carlton, MN, St. Louis, MN.
Forest County Potawatomi Community | Forest, WI, Marinette, WI, Oconto, WI.
Fort Belknap Indian Community (Fort Belknap Reservation) | Blaine, MT, Phillips, MT.
Fort McDermitt Paiute and Shoshone (Fort McDermitt Reservation) | Nevada, Malheur, OR.
Fort McDowell Yavapai Nation (Fort McDowell Reservation) | Maricopa, AZ.
Fort Mojave Indian Tribe | Nevada, Mohave, AZ, San Bernardino, CA.
Gila River Indian Community (Gila River Reservation) | Maricopa, AZ, Pinal, AZ.
Grand Portage Band of Chippewa (Grand Portage Reservation) | Cook, MN.
Grand Traverse Band of Ottawa & Chippewa | Antrim, MI,¹⁵ Benzie, MI, Charlevoix, MI, Grand Traverse, MI, Leelanau, MI, Manistee, MI.
Hannahville Indian Community | Delta, MI, Menominee, MI.
Haskell Indian Health Center | Douglas, KS.l6 ¹⁷.
Havasupai Tribe (Havasupai Reservation) | Coconino, AZ.
Ho-Chunk Nation of Wisconsin (Winnebago Tribe of Wisconsin) | Adams, WI,¹⁸ Clark, WI, Columbia, WI, Crawford, WI, Dane, WI, Eau Claire, WI, Houston, MN, Jackson, WI, Juneau, WI, La Crosse, WI, Marathon, WI, Monroe, WI, Sauk, WI, Shawano, WI, Vernon, WI, Wood, WI.
Hoh Indian Tribe (Hoh Reservation) | Jefferson, WA.
Hopi Tribe | Apache, AZ, Coconino, AZ, Navajo, AZ.
Houlton Band of Maliseet Indians | Aroostook, ME.¹⁹
Hualapai Indian Tribe (Hualapai Reservation) | Coconino, AZ, Mohave, AZ, Yavapai, AZ.
Huron Potawatomi Inc. | Allegan, MI,¹³ Barry, MI, Branch, MI, Calhoun, MI, Kalamazoo, MI, Kent, MI, Ottawa, MI.
Iowa Tribe | Brown, KS, Doniphan, KS, Richardson, NE.
Jamestown S'Klallam Tribe | Clallam, WA, Jefferson, WA.
Jena Band of Choctaw Indians | Grand Parish, LA,¹³ LaSalle Parish, LA, Rapides Parish, LA.
Jicarilla Apache Nation (Jicarilla Apache Reservation) | Archuleta, CO, Rio Arriba, NM, Sandoval, NM.
Kaibab Band of Paiute (Kaibab Reservation) | Coconino, AZ, Mohave, AZ, Kane, UT.
Kalispel Indian Community (Kalispel Reservation) | Pend Oreille, WA, Spokane, WA.
Keweenaw Bay Indian Community (L'Anse Reservation) | Baraga, MI, Houghton, MI, Ontonagon, MI.
Kickapoo Tribe of Indians (Kickapoo Reservation) | Brown, KS, Jackson, KS.
Kickapoo Traditional Tribe of Texas | Maverick, TX.²⁰
Klamath Indian Tribe | Klamath, OR.²¹
Kootenai Tribe | Boundary, ID.
Lac Courte Oreilles Band of Lake Superior Chippewa (Lac Courte Oreilles Reservation) | Sawyer, WI.
Lac du Flambeau Band of Lake Superior Chippewa (Lac du Flambeau Reservation) | Iron, WI, Oneida, WI, Vilas, WI.
Lac Vieux Desert Band of Lake Superior Chippewa | Gogebic, MI.
Leech Lake Band of Chippewa (Leech Lake Reservation) | Beltrami, MN, Cass, MN, Hubbard, MN, Itasca, MN.
Little River Band of Ottawa Indians | Kent, MI,²² Muskegon, MI, Newaygo, MI, Oceana, MI, Ottawa, MI, Manistee, MI, Mason, MI, Wexford, MI, Lake, MI.
Little Traverse Bay Bands of Odawa | Alcona, MI,²² Alger, MI, Alpena, MI, Antrim, MI, Benzie, MI, Charlevoix, MI, Cheboygan, MI, Chippewa, MI, Crawford, MI, Delta, MI, Emmet, MI, Grand Traverse, MI, Iosco, MI, Kalkaska, MI, Leelanau, MI, Luce, MI, Mackinac, MI, Manistee, MI, Missaukee, MI, Montmorency, MI, Ogemaw, MI, Oscoda, MI, Otsego, MI, Presque Isle, MI, Schoolcraft, MI, Roscommon, MI, Wexford, MI.
Lower Brule Sioux Tribe (Lower Brule Reservation) | Brule, SD, Buffalo, SD, Hughes, SD, Lyman, SD, Stanley, SD.
Lower Elwha Tribal Community (Lower Elwha Reservation) | Clallam, WA.
Lower Sioux Indian Community (Lower Sioux Reservation) | Redwood, MN, Renville, MN.
Lummi Tribe (Lummi Reservation) | Whatcom, WA.
Makah Indian Tribe (Makah Reservation) | Clallam, WA.
Mashantucket Pequot Tribe | New London, CT.²³
Match-e-be-nash-she-wish Band of Pottawatomi | Allegan, MI,¹³ Barry, MI, Kalamazoo, MI, Kent, MI, Ottawa, MI.
Menominee Indian Tribe | Langlade, WI, Menominee, WI, Oconto, WI, Shawano, WI.
Mescalero Apache Tribe (Mescalero Reservation) | Chaves, NM, Lincoln, NM, Otero, NM
Miccosukee Tribe | Broward, FL, Collier, FL, Miami-Dade, FL.
Mille Lacs Band of Chippewa (Mille Lacs Reservation) | Aitkin, MN, Kanebec, MN, Mille Lacs, MN, Pine, MN.
Mississippi Band of Choctaw Indians | Attala, MS, Jasper, MS,²⁴ Jones, MS, Kemper, MS, Leake, MS, Neshoba, MS, Newton, MS, Noxubee, MS, Scott, MS,²⁵ Winston, MS.
Mohegan Indian Tribe | Fairfield, CT, Hartford, CT, Litchfield, CT, Middlesex, CT, New Haven, CT, New London, CT, Tolland, CT, Windham, CT.
Muckleshoot Indian Tribe | King, WA, Pierce, WA.
Narragansett Indian Tribe | Washington, RI.²⁶
Navajo Nation (Navajo Reservation) | Apache, AZ, Bernalillo, NM, Cibola, NM, Coconino, AZ, Kane, UT, McKinley, NM, Montezuma, CO, Navajo, AZ, Rio Arriba, NM, Sandoval, NM, San Juan, NM, San Juan, UT, Socorro, NM, Valencia, NM.
Nevada | Entire State.²⁷
Nez Perce Tribe | Clearwater, ID Idaho, ID, Latah, ID, Lewis, ID, Nez Perce, ID.
Nisqually Indian Tribe (Nisqually Reservation) | Pierce, WA, Thurston, WA.
Nooksack Indian Tribe | Whatcom, WA.
Northern Cheyenne Tribe (Northern Cheyenne Reservation) | Big Horn, MT, Carter, MT,²⁸ Rosebud, MT.
Northwestern Band of Shoshone Nation (Washakie) | Box Elder, UT.²⁹
Oglala Sioux Tribe (Pine Ridge Reservation) | Bennett, SD, Cherry, NE, Custer, SD, Dawes, NE, Fall River, SD, Jackson, SD, Mellete, SD, Pennington, SD, Shannon, SD, Sheridan, NE, Todd, SD, Washabaugh, SD.
Oklahoma | Entire State.³⁰
Omaha Tribe | Burt, NE, Cuming, NE, Monona, IA, Thurston, NE, Wayne, NE.
Oneida Nation | Chenango, NY, Cortland, NY, Herkimer, NY, Madison, NY, Oneida, NY, Onondaga, NY.
Oneida Tribe of Indians | Brown, WI, Outagamie, WI.
Onondaga Nation | Onondaga, NY.
Paiute Indian Tribe of Utah | Iron, UT,³¹ Millard, UT, Sevier, UT, Washington, UT.
Pascua Yaqui Tribe | Pima, AZ.³²
Passamaquoddy Tribe | Aroostook, ME,³³ Washington, ME.
Passamaquoddy Pleasant Point | South Washington, ME from Baring, ME North to Milbridge, ME, South and West to Alexander, ME.³⁴
Penobscot Tribe | Aroostook, ME, Penobscot, ME.
Poarch Band of Creek Indians | Baldwin, AL,³⁵ Escambia, AL, Escambia, FL, Elmore, AL, Mobile, AL, Monroe, AL.
Pokagon Band of Potawatomi Indians | Allegan, MI, Berrien, MI, Cass, MI, Elkhart, IN,¹³ Kosciusko, IN, La Porte, IN, Marshall, IN, St. Joseph, IN, Starke, IN, Van Buren, MI.
Ponca Tribe (Northern) | Boyd, NE,³⁶ Charles Mix, SD, Douglas, NE, Knox, NE, Lancaster, NE, Madison, NE.
Port Gamble Indian Community | Kitsap, WA.
Prairie Band of Potawatomi Nation | Jackson, KS.
Prairie Island Indian Community (Prairie Island Reservation) | Goodhue, MN.
Pueblo of Acoma | Cibola, NM.
Pueblo of Cochiti | Sandoval, NM, Sante Fe, NM.
Pueblo of Jemez | Sandoval, NM.
Pueblo of Isleta | Bernalillo, NM, Cibola, NM, Socorro, NM, Torrance, NM, Valencia, NM.
Pueblo of Laguna | Bemalillo, NM, Cibola, NM, Sandoval, NM, Valencia, NM.
Pueblo of Nambe | Santa Fe, NM.
Pueblo of Picuris | Taos, NM.
Pueblo of Pojoaque | Rio Arriba, NM, Santa Fe, NM.
Pueblo of San Felipe | Sandoval, NM.
Pueblo of San Ildefonso | Los Alamos, NM, Rio Arriba, NM, Sandoval, NM, Santa Fe, NM
Pueblo of San Juan | Rio Arriba, NM.
Pueblo of Sandia | Bernalillo, NM, Sandoval, NM.
Pueblo of Santa Ana | Sandoval, NM.
Pueblo of Santa Clara | Los Alamos, NM, Rio Arriba, NM, Sandoval, NM, Santa Fe, NM.
Pueblo of Santo Domingo | Sandoval, NM, Santa Fe, NM.
Pueblo of Taos | Colfax, NM, Taos, NM.
Pueblo of Tesuque | Santa Fe, NM.
Pueblo of Zia | Sandoval, NM.
Puyallup Tribe | King, WA, Pierce, WA, Thurston, WA.
Quechan Tribe (Fort Yuma Indian Reservation) | Yuma, AZ, Imperial, CA.
Quileute Tribe (Quileute Reservation) | Clallam, WA, Jefferson, WA
Quinault Tribe (Ouinalt Reservation) | Grays Harbor, WA, Jefferson, WA.
Rapid City | Pennington, SD.³⁷
Red Cliff Band of Lake Superior Band of Chippewa | Bayfield, WI.
Red Lake Band of Chippewa Indians (Red Lake Reservation) | Beltrami, MN, Clearwater, MN, Koochiching, MN, Lake of the Woods, MN, Marshall, MN, Pennington, MN, Polk, MN, Roseau, MN.
Rosebud Sioux Tribe (Rosebud Reservation) | Bennett, SD, Cherry, NE, Gregory, SD, Lyman, SD, Mellette, SD, Todd, SD, Tripp, SD.
Sac & Fox Tribe of the Mississippi in Iowa | Tama, IA.
Sac & Fox Nation of Missouri in Kansas & Nebraska | Brown, KS, Richardson, NE.
Saginaw Chippewa Indian Tribe (Isabella Reservation) | Arenac, MI,³⁸ Clare, MI, Isabella, MI, Midland, MI, Missaukee, MI.
St. Croix Chippewa Indians(St. Croix Reservation) | Barron, WI, Burnett, WI, Pine, MN, Polk, WI, Washburn, WI.
St. Regis Band of Mohawk Indians | Franklin, NY, St. Lawrence, NY.
Salt River Pima-Maricopa Indian Community (Salt River Reservation) | Maricopa, AZ.
Samish Indian Tribe | Clallam, WA,¹³ Island, WA, Jefferson, WA, King, WA, Kitsap, WA, Pierce, WA, San Juan, WA, Skagit, WA, Snohomish, WA, Whatcom, WA.
San Carlos Apache Tribe (San Carlos Reservation) | Apache, AZ Cochise, AZ, Gila, AZ, Graham, AZ, Greenlee, AZ, Pinal, AZ.
San Juan Southern Paiute Tribe (Navajo Reservation) | Coconino, AZ San Juan, UT.
Santee Sioux (Santee Reservation) | Bon Homme, SD, Knox, NE.
Sauk-Suiattle Indian Tribe | Snohomish, WA, Skagit, WA.
Sault St. Marie Tribe of Chippewa | Alger, MI,³⁹ Chippewa, MI, Delta, MI, Luce, MI, Mackinac, MI, Marquette, MI, Schoolcraft, MI.
Seminole Tribe of Florida | Broward, FL, Collier, FL, Glades, FL, Hendrv, FL.
Seneca Nation | Allegany, NY, Cattaraugus, NY, Chautaugua, NY, Erie, NY, Warren, PA.
Shakopee Mdewakanton Sioux Community (Prior Lake) | Scott, MN.
Shoal Water Bay Tribe (Shoalwater Bay Reservation) | Pacific, WA.
Shoshone Tribe (Wind River Reservation) | Hot Springs, WY, Fremont, WY, Sublette, WY.
Shoshone-Bannock Tribe (Fort Hall Reservation) | Bannock,ID, Bingham, ID, Caribou, ID, Lemhi, ID,⁴⁰ Power, ID.
Shoshone-Paiute Tribe (Duck Valley Reservation) | Nevada, Owyhee, ID.
Sisseton-Wahpeton Sioux Tribe (Lake Traverse Reservation) | Codington, SD, Day, SD, Grant, SD, Marshall, SD, Richland, ND, Roberts, SD, Sargent, ND, Traverse, MN.
Skokomish Indian Tribe (Skokomish Reservation) | Mason, WA.
Skull Valley Band of Goshute Indians | Tooele, UT.
Snoqualmie Tribe | King, WA,¹³ Snohomish, WA, Pierce, WA, Island, WA, Mason, WA.
Sokaogon Chippewa (Mole Lake) | Forest, WI.
Southern Ute Indian Tribe (Southern Ute Reservation) | Archuleta, CO, La Plata, CO, Montezuma, CO, Rio Arriba, NM, San Juan, NM.
Spirit Lake Tribe (Fort Totten) (Devil's Lake Sioux Reservation) | Benson, ND, Eddy, ND, Nelson, ND, Ramsey, ND.
Spokane Tribe (Spokane Reservation) | Ferry, WA, Lincoln, WA, Stevens, WA.
Squaxin Island Tribe (Squaxin Island Reservation) | Mason, WA.
Standing Rock Sioux Tribe | Adams, ND, Campbell, SD, Corson, SD, Dewey, SD, Emmons, ND, Grant, ND, Morton, ND, Perkins, SD, Sioux, ND, Walworth, SD, Ziebach, SD.
Stockbridge Munsee Community | Menominee, WI, Shawano, WI.
Stillaguamish Tribe | Snohomish, WA.
Suquamish Indian Tribe (Port Madison Reservation) | Kitsap, WA.
Swinomish Indians (Swinomish Reservation) | Skagit, WA.
Three Affiliated Tribes (Fort Berthold Reservation) | Dunn, ND, Mercer, ND, McKenzie, ND, McLean, ND, Mountrail, ND, Ward, ND.
Tohono O'odham Nation (Papago) | Maricopa, AZ, Pima, AZ, Pinal, AZ.
Tonawanda Band of Seneca | Genesee, NY, Erie, NY, Niagara, NY.
Tonto Apache Tribe of Arizona | Gila, AZ.
Trenton Service Unit | Divide, ND,⁴¹ McKenzie, ND, Williams, ND, Richland, MT, Roosevelt, MT, Sheridan, MT.
Tulalip Tribes (Tulalip Reservation) | Snohomish, WA.
Tunica-Biloxi Indian Tribe | Avoyelles, LA, Rapides, LA.⁴²
Turtle Mountain Band of Chippewa (See also, Trenton Service Unit) | Rolette, ND.⁴³
Tuscarora Nation | Niagara, NY.
Upper Sioux Community (Upper Sioux Reservation) | Chippewa, MN, Yellow Medicine, MN.
Upper Skagit Indian Tribe | Skagit, WA.
Ute Indian Tribe (Uintah & Ouray Reservation) | Carbon, UT, Daggett, UT, Duchesne, UT, Emery, UT, Grand, UT, Rio Blanco, CO, Summit, UT, Uintah, UT, Utah, UT, Wasatch, UT.
Ute Mountain Tribe (Ute Mountain Reservation) | Apache, AZ, La Plata, CO, Montezuma, CO, San Juan, NM, San Juan, UT.
Wampangoag Tribe of Gay Head (Aquinnah) | Dukes, MA.¹²
Washoe Tribe of Nevada & California | Entire State of NV, Entire State of CA, except for the counties listed in footnote.
White Earth Band of Chippewa (White Earth Reservation) | Becker, MN, Clearwater, MN, Mahnomen, MN, Norman, MN, Polk, MN.
White Mountain Apache (Fort Apache Reservation) | Apache, AZ, Coconino, AZ, Gila, AZ, Graham, AZ, Greenlee, AZ, Navajo, AZ.
Winnebago Tribe | Dakota, NE, Dixon, NE, Monona, IA, Thurston, NE, Wayne, NE, Woodbury, IA.
Yankton Sioux Tribe | Bon Homme, SD, Boyde, NE, Charles Mix, SD, Douglas, SD, Gregory, SD, Hutchinson, SD, Knox, NE.
Yavapai-Apache Nation (Camp Verde Indian Reservation) | Yavapai, AZ.
Yavapai-Prescott Tribe (Yavapai Reservation) | Yavapai, AZ.
Ysleta Del Sur Pueblo of Texas | El Paso, TX.¹
Zuni Tribe (Zuni Reservation) | Apache, AZ, Cibola, NM, McKinley, NM, Valencia, NM.
¹ Public Law 100-89, Restoration Act for Ysleta Del Sur and Alabama and Coushatta Tribes of Texas establishes service areas for “members of the tribe” by sections 101(3) and 105(a) for the Pueblo and sections 201(3) and 206(a) respectively.
² Entire State of Alaska is included as a CHSDA by regulation (42 CFR 136.22(a)(1)).
³ Aroostook Band of Micmac was recognized by Congress on November 26, 1991 through the Aroostook Band of Micmac Settlement Act. Aroostook County was defined as the SDA.
⁴ Special programs established by Congress irrespective of the eligibility regulations. Eligibility for services at these facilities is based on the legislative history of the appropriation of funds for the particular facility, rather than the eligibility regulations and historically services have been provided at Brigham City (Pub. L. 88-358).
⁵ Entire State of California, excluding counties of Alameda, Contra Costa, Los Angeles, Marin, Orange, Sacramento, San Francisco, San Mateo, Santa Clara, Kern, Merced, Monterey, Napa, San Benito, San Joaquin, San Luis Obispo, Santa Cruz, Solano, Stanislaus, and Ventura, is designated a CHSDA (25 U.S.C. 1680).
⁶ Historically part of the Coleville Service Unit population since 1970.
⁷ Members of the tribe residing in these counties were specified as eligible for Federal services and benefits without regard to the existence of a Federal Indian reservation (Pub. L. 98-481, and H. Rept. No. 98-904).
⁸ Grande Ronde Tribe of Oregon recognized by Pub. L. 98-165, signed into law on November 22, 1983, provides for eligibility in these six counties without regard to the existence of a reservation.
⁹ In order to carry out the Congressional intent of the Siletz Restoration Act, Pub. L. 95-195, as expressed in H. Report No. 95-623, at page 4, Siletz tribal members residing in these counties are eligible for contract health services.
¹⁰ Historically part of the Yakirna Service Unit population since 1979.
¹¹ Cow Creek Band of Umpqua recognized by Pub. L. 97-391, signed into law on December 29, 1983. House Rept. No. 97-862 designates Douglas, Jackson, and Josephine Counties as a service area without regard to the existence of a reservation. The IRS later exercised administrative discretion to add Coos, Deshutes, Klamath and Lane counties to the service delivery area.
¹² Members of the tribe residing in Martha's Vineyard [are] deemed to be living “on or near an Indian reservation” for the purposes of eligibility for Federal services (Sec. 12, Pub. L. 100-95).
¹³ This is a newly recognized tribe, as documented at 67 FR 46329, July 12, 2002. The counties listed were designated administratively as the SDA, to function as a CHSDA, for the purposes of the operating a CHS program pursuant to the ISDEAA, Pub. L. 93-638.
¹⁴ Historically part of Crow Service Unit population.
¹⁵ Historically part of the Grande Traverse Service Unit population since 1980.
¹⁶ Historically part of Kansas Service Unit since 1979.
¹⁷ Special programs established by Congress irrespective of the eligibility regulations. Eligibility for services at these facilities is based on the legislative history of the appropriation of funds for the particular facility, rather than the eligibility regulations and historically services have been provided at Haskell (H. Rept. No. 95-392).
¹⁸ The counties included in this CHSDA were designated by regulation (42 CFR 136.22(a)(5)).
¹⁹ Public Law 97-428 provides for eligibility in or around the Town of Houlton without regard to existence of a reservation.
²⁰ Texas Band of Kickapoo was recognized by Pub. L. 97-429, signed into law on January 8, 1983.The Act provides for eligibility for Kickapoo tribal members residing in Maverick County without regard to the existence of a reservation.
²¹ Legislative history states that for the purpose of Federal services and benefits “members of the tribe residing in Klamath County shall be deemed to be residing in or near a reservation”. (Pub. L. 99-398, Sec. 2(2)).
²² The Little River Band of Ottawa Indians and the Little Traverse Bay Bands of Odawa Indians were recognized by Congress (Pub. L. 103-324, Sec. 4(b)(2)) and the listed counties were designated as the SDA, to function as a CHSDA, for the purposes of the operating a CHS program pursuant to the ISDEAA, Pub. L. 93-638.
²³ Mashantucket Pequot Indian Claims Settlement Act, Pub. L. 98-134, signed into law on October 18, 1983, provides for a reservation in New London.
²⁴ Choctaw Indians residing in Jasper and Noxubee Counties, MS, will continue to be eligible for contract health services. These two counties were inadvertently omitted from 42 CFR 136.22.
²⁵ Historically part of the Choctaw Service Unit population since 1970.
²⁶ Narragansett Indians recognized by Pub. L. 95-395, signed into law September 30, 1978. Lands in Washington County are now federally restricted and the Bureau of Indian Affairs considers them as the Narragansett Indian Reservation.
²⁷ Entire State of Nevada is included as a CHSDA by regulation (42 CFR 136.22(a)(2)).
²⁸ Historically part of the Northern Cheyenne Service Unit population since 1979.
²⁹ Land of Box Elder County, Utah, taken into trust for the tribe in 1986.
³⁰ Entire State of Oklahoma is included as a CHSDA by regulation (42 CFR 136.22(a)(3)).
³¹ Paiute Indian Tribe of Utah Reservation Act, Pub. L. 96-227, provides for the extension of services to these four counties without regard to the existence of a reservation.
³² Legislative history (H.R. Report No. 95-1021) to Pub. L. 95-375, Extension of Federal Benefits to Pascua Yaqui Indians, Arizona, expresses congressional intent that lands conveyed to the tribes pursuant to Act of October 8, 1964. (Pub. L. 88-350) shall be deemed a Federal Indian Reservation.
³³ Included to carry out the intention of Congress to fund and provide contract health services to Penobscot and Passamaquoddy Indians in Aroostook County (Pub. L. 96-420; H. Rept. 96-1353).
³⁴ Included to carry out the intention of Congress to fund and provide contract health services to Penobscot and Passamaquoddy Indians in Aroostook County (Pub. L. 96-420; H. Rept. 96-1353).
³⁵ Counties in the Service Unit designated by Congress for the Poarch Band of Creek Indians (see H. Rept. 98-886, June 29, 1984; Cong. Record, October 10, 1984, Pg. H11929).
³⁶ Ponca Restoration Act, Pub. L. 101-484, recognized members of the tribe residing in Boyd, Douglas, Knox, Madison or Lancaster counties of Nebraska or Charles Mix county of South Dakota shall be deemed to be residing on or near a reservation.
³⁷ Special programs established by Congress irrespective of the eligibility regulations. Eligibility for services at these facilities is based on the legislative history of the appropriation of funds for the particular facility, rather than the eligibility regulations and historically services have been provided at Rapid City South Dakota Hospital (S. Rept. No. 1154, FY 1967 Interior Approp. 89th Cong. 2d Sess.).
³⁸ Historically part of Isabella Reservation Area and Eastern Michigan Service Unit population since 1979.
³⁹ The counties included in this CHSDA were designated by regulation (42 CFR 136.22(a)(4)).
⁴⁰ Historically part of the Fort Hall Service Unit population since 1979.
⁴¹ The Secretary acting through the Service is directed to provide contract health services to Turtle Mountain Band of Chippewa Indians that reside in Trenton Service Area of Divide, Mackenzie, and Williams counties in the state of North Dakota and the adjoining counties of Riehl and, Roosevelt, and Sheridan in the state of Montana (Sec. 815, Pub. L. 94-437).
⁴² Historically part of the Tunica Biloxi Service Unit population since 1982.
⁴³ The Secretary acting through the Service is directed to provide contract health services to Turtle Mountain Band of Chippewa Indians that reside in Trenton Service Area of Divide, Mackenzie, and Williams counties in the state of North Dakota and the adjoining counties of Richland, Roosevelt, and Sheridan in the state of Montana (Sec. 815, Pub. L. 94-437).

Dated: May 11, 2007
Robert G. McSwaim,
Deputy Director, Indian Health Service.

[FR Doc. 07-3045 Filed 6-20-07; 8:45 am]

BILLING CODE 4165-16-M